DEPARTMENT OF AGRICULTURE

Forest Service

Baked Apple Fire Salvage Project, Umpqua National Forest, Douglas County, OR

AGENCY: Forest Service, USDA.

ACTION: Notice of intent to prepare an environmental impact statement.

SUMMARY: The USDA Forest Service, will prepare an environmental impact statement (EIS) for a fire salvage timber sale and connected actions within the Panther Creek watershed planning area of the North Umpqua Ranger District. These actions include timber salvage sales, the construction of temporary roads, site preparation, tree planting, hazardous fuels (slash) reduction, road decommissioning, road repair, restoration of non-commercial stands, and soil restoration through felling of snags to create down wood. The planning area is located approximately 43 miles east of Roseburg, Oregon. The project is expected to be implemented starting in 2004 through 2006. The agency gives notice of the full environmental analysis and decision-making process that will occur on the proposal so that interested and affected people may become aware of how they can participate in the process and contribute to the final decision.

DATES: Comments concerning the scope of the analysis should be received in writing, by April 18, 2003.

ADDRESSES: Send written comments and suggestions concerning this proposal to Carol Cushing, District Ranger, North Umpqua Ranger District, 18782 North Umpqua Highway, Glide, Oregon, 97443.

FOR FURTHER INFORMATION CONTACT: Direct questions about the proposed action or EIS to Debbie Anderson, ID Team Leader, North Umpqua Ranger District, 18782 North Umpqua Highway, Glide, Oregon 97443, or (541) 496-3532.

SUPPLEMENTARY INFORMATION: The area being analyzed in the Baked Apple Fire Salvage Project EIS encompasses approximately 13,925 acres of National Forest System land on the North Umpqua Ranger District. The planning area is bounded to the North by the North Umpqua River, to the South by the North Umpqua River/Little River Divide, to the East by Calf Ridge, and to the West by Panther Ridge. The planning area includes all or portions of sections 9, 10, and 14 through 36, T26S, R1E; sections 19 and 30, T26S, R2E; and sections 2 through 5, and 9 through 11, T27S, R1E, Willamette Meridian, Douglas County, Oregon.

The proposed action is based on the need to recover portions of the Panther Creek subwatershed burned by the 2002 Apple Fire. The Apple Fire, which started on August 16, 2002, burned almost 18,000 acres of early, mid, and late seral forests on the North Umpqua Ranger District. Within the perimeter of the Apple Fire, the Panther Creek subwatershed burned with the highest intensity, completely consuming large swaths of forest over a 4,000-acre area, particularly within Limpy Creek. All treatments occur on lands allocated as Matrix and are consistent with the 1990 Umpqua National Forest Land and Resource Management Plan (Forest Plan), as amended. All salvage treatments specifically avoid roadless areas, the wild and scenic river corridor and visually sensitive area, owl cores, cultural sites, and areas identified as unsuitable, unstable, or riparian reserves. The timber salvage proposal is based on the need to recover the economic value of the burned wood in the scorched and severely burned portion of the watershed before it decays, which will contribute wood products to the local economy and jobs to the County and State. Slash treatment is based on the need to reduce activity-generated fuels in order to keep fuel loads within parameters prescribed by the Forest. Reforestation is based on the need to return the burned areas within subwatershed to the productive forest that is was prior to the fire. Haul related roadwork is needed in order to ensure that the road system is safe for haul. Construction and reconstruction of temporary spur roads, reconstruction and/or expansion of landings, construction new landings, and use of existing rock pits is needed to facilitate removal and hauling of wood. Snag felling for large wood is needed to maintain a source of large wood that will decay, helping contribute to soil productivity. Treatment of pre-commercial stands to remove fuels and re-establish seedlings is needed to return those stands to the productive forests that they were prior to the fire.

The proposed action timber sale related activities include: Salvage harvest on approximately 1,226 acres (retaining between 6 and 12 trees per acre for shade and large wood recruitment); reforestation and seedling protection (with species native to the site) on about 1,095 acres; slash treatment on about 1,171 acres (including grapple piling, underburning, hand pile burning, and yarding of tops attached); road work (culvert replacement and road stabilization of two sites) along Forest Service Road 4714 and construction and reconstruction (about 1.1 miles) of temporary spur roads; construct and reconstruct up to 39 landings; and use 2 existing rock pits and establish 6 stockpile sites along existing roads to store rock and excavated material. Connected actions that would be accomplished include: Felling of snags on salvage units; site preparation and reforestation; and road reconstruction and decommissioning work.

The acreage proposed for harvest is estimated to yield up to 50 million board feet of timber, which may result in 5 to 6 separate timber sales. This volume and acreage estimates are likely to decrease as a result of finalizing riparian reserves and unsuitable or unstable soils boundaries, and as the smaller diameter wood begins to decay. The areas prescribed for harvest will require a combination of helicopter, skyline and ground-based harvesting equipment. Alternatives may reflect different harvest equipment combinations. Alternatives to be considered include the No Action Alternative, the proposed action, and alternatives to the proposed action.

Preliminary issues, as identified by the Forest and by scoping that has been conducted to date, include the following related to the proposed action: The economic efficiency and viability; the potential affect on the late successional habitat and species within the Panther Creek Watershed; and the potential affect on water quality and aquatic conditions for aquatic and riparian dependent species.

The scoping effort is intended to identify issues, which may lead to the development of alternatives to the proposed action. One of the purposes of this notice of intent is to solicit input from the public as part of the overall scoping effort. In addition to this notice, the public will be notified of the EIS through the Umpqua National Forest's April 2003 quarterly publication “Schedule of Proposed Actions”.

Comments received in response to this notice and through scoping, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Public comments are appreciated throughout the analysis process. The draft EIS is expected to be filed with the Environmental Protection Agency (EPA) and be available for public review by July 2003. The comment period on the draft EIS will be 45 days from the date the EPA publishes the notice of availability in the Federal Register. The final EIS is scheduled to be available October 2003.

The Forest Service believes it is important to give reviewers notice of this early stage of public participation and of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could have been raised at the draft stage may be waived or dismissed by the court if not raised until after completion of the final EIS. City of Angoon v. Hodel, 803 f.2d 1016, 1022 (9th Cir, 1986) and Wisconsin Heritages, Inc. v. Harris, 490 F. Supp. 1334, 1338 (E.D. Wis. 1980). Because of these court rulings, it is very important that those interested in this proposed action participate by the close of the 45-day comment period so substantive comments and objections are made available to the Forest Service at a time when it can meaningful consider and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act of 40 CFR 1503.3 in addressing these points.)

In the final EIS, the Forest Service is required to respond to substantive comments and responses received during the comment period that pertain to the environmental consequences discussed in the draft EIS and applicable laws, regulations, and policies considered in making a decision regarding the proposal. The Responsible Official is Carol Cushing, District Ranger of the North Umpqua Ranger District, Umpqua National Forest. The Responsible Official will document the decision and rationale for the decision in a Record of Decision. The decision will be subject to review under Forest Service Appeal Regulations (36 CFR part 215).

Dated: March 7, 2003.
James A. Caplan,
Forest Supervisor.

[FR Doc. 03-6269 Filed 3-14-03; 8:45 am]

BILLING CODE 3410-11-M